DEPARTMENT OF COMMERCE

International Trade Administration

A-570-846

Brake Rotors from the People's Republic of China: Extension of Time Limit for the Preliminary Results of the 2005-2006 Administrative and New Shipper Reviews

AGENCY: Import Administration, International Trade Administration, Department of Commerce.

EFFECTIVE DATE: December 26, 2006.

FOR FURTHER INFORMATION CONTACT: Jennifer Moats, AD/CVD Operations, Office 8, Import Administration, International Trade Administration, U.S. Department of Commerce, 14th Street and Constitution Avenue, NW, Washington DC 20230; telephone: (202) 482-5047.

SUPPLEMENTARY INFORMATION: On May 31, 2006, the Department published a notice of initiation of the administrative review of brake rotors from the People's Republic of China (“PRC”), covering the period April 1, 2005, through March 31, 2006. See Initiation of Antidumping and Countervailing Duty Administrative Reviews and Requests for Revocation in Part, 71 FR 30864 (May 31, 2006). This administrative review covers 16 firms. However, due to the large number of firms subject to this administrative review, and the Department's experience regarding the administrative burden to review each company for which a request has been made, the Department exercised its authority to limit the number of respondents selected for individual review. See Section 777(A)(c) of the Tariff Act of 1930, as amended (“the Act”); See also Memorandum to Wendy Frankel from Blanche Ziv regarding the Antidumping Duty Administrative Review of Brake Rotors from the People's Republic of China: Selection of Respondents (“Selection Memo”), dated August 18, 2006.

The following respondents were selected for individual review: Longkou Haimeng Machinery Co., Ltd. (“Haimeng”), Yantai Winhere Auto-Part Manufacturing Co., Ltd. (“Winhere”), and Qingdao Meita Automotive Industry Co., Ltd. (“Meita”). See Selection Memo. On May 30, 2006, the Department published a notice of initiation of new shipper review of brake rotors from the PRC covering the period April 1, 2005, through March 31, 2006. See Brake Rotors from the People's Republic of China: Initiation of New Shipper Review, 71 FR 30655 (May 30, 2006).

On October 2, 2006, the Department received a letter from counsel to Qingdao Golrich Autoparts Co., Ltd. (“Golrich”), agreeing to waive the new shipper review time limits in accordance with 19 CFR § 351.214(j)(3). Therefore, in accordance with 19 CFR § 351.214(j)(3), on October 4, 2006, the Department acknowledged respondent's waiver of the new shipper review time limits and aligned the new shipper review with the administrative review. See Department's Memorandum to the File on the Alignment of 2005-2006 Administrative and New Shipper Reviews, dated October 4, 2006. The preliminary results are currently due by January 2, 2007.

In November 2006, the Department conducted verifications of sales and factors of production (“FOP”) for the new shipper review and one of the three administrative review companies selected as mandatory respondents. Also, in November 2006, the Department conducted a separate-rate verification for one of the companies not selected as a mandatory respondent requesting its own separate-rate.

Extension of Time Limit of Preliminary Results

Section 751(a)(3)(A) of the Act requires the Department to issue the preliminary results of an administrative review within 245 days after the last day of the anniversary month of an antidumping duty order for which a review is requested and issue the final results within 120 days after the date on which the preliminary results are published. However, if it is not practicable to complete the review within the time period, section 751(a)(3)(A) of the Act allows the Department to extend these deadlines to a maximum of 365 days and 180 days, respectively.

The Department determines that completion of the preliminary results of these reviews within the statutory time period is not practicable, given the extraordinarily complicated nature of the proceeding. The 2005-2006 administrative and new shipper reviews cover four companies, and to conduct the sales and factor analyses for each requires the Department to gather and analyze a significant amount of information pertaining to each company's sales practices and manufacturing methods. In addition, the Department must analyze the responses of thirteen separate-rate respondents to determine their eligibility for a separate-rate. Therefore, the Department requires more time to complete these analyses. Additionally, the Department requires additional time to analyze the verification findings of the three companies verified.

Therefore, given the number and complexity of issues in this case, and in accordance with sections 751(a)(3)(A) and 751(a)(2)(B)(iv) of the Act, we are extending the time period for issuing the preliminary results of review by 40 days to 285 days. Therefore, the preliminary results will be due no later than February 9, 2007. The final results continue to be due 120 days after the publication of the preliminary results.

This notice is published pursuant to sections 751(a)(3)(A) and 777(i) of the Act.

Dated: December 19, 2006.
Stephen J. Claeys,
Deputy Assistant Secretary for Import Administration.

[FR Doc. E6-22073 Filed 12-22-06; 8:45 am]

BILLING CODE 3510-DS-S